SMALL BUSINESS ADMINISTRATION

[Declaration of Disaster #3611]

State of South Carolina

Greenville County and the contiguous counties of Abbeville, Anderson, Laurens, Pickens, and Spartanburg in the State of South Carolina; and Henderson, Polk, and Transylvania Counties in the State of North Carolina constitute a disaster area due to damages caused by torrential rains that occurred on July 29, 2004. Applications for loans for physical damage as a result of this disaster may be filed until the close of business on October 11, 2004 and for economic injury until the close of business on May 10, 2005 at the address listed below or other locally announced locations: U.S. Small Business Administration, Disaster Area 2 Office, One Baltimore Place, Suite 300, Atlanta, GA 30308.

The interest rates are:

| Percent
For Physical Damage:
Homeowners with Credit Available Elsewhere | 6.375
Homeowners without Credit Available Elsewhere | 3.187
Businesses with Credit Available Elsewhere | 5.800
Businesses and Non-Profit Organizations without Credit Available Elsewhere | 2.900
Others (Including Non-Profit Organizations) with Credit Available Elsewhere | 4.875
For Economic Injury:
Businesses and Small Agricultural Cooperatives without Credit Available Elsewhere | 2.900

The number assigned to this disaster for physical damage is 361106 for South Carolina and 361206 for North Carolina. The number assigned to this disaster for economic injury is 9ZO500 for South Carolina and 9ZO600 for North Carolina.

(Catalog of Federal Domestic Assistance Program Nos. 59002 and 59008)

Dated: August 10, 2004.
Hector V. Barreto,
Administrator.

[FR Doc. 04-18879 Filed 8-17-04; 8:45 am]

BILLING CODE 8025-01-P